DEPARTMENT OF HEALTH AND HUMAN SERVICES

Health Resources and Services Administration

Extension of Comment Period for Proposed Updates to the Bright Futures Periodicity Schedule as Part of the HRSA-Supported Preventive Services Guidelines for Infants, Children, and Adolescents

AGENCY: Health Resources and Services Administration (HRSA), Department of Health and Human Services.

ACTION: Notice.

SUMMARY: HRSA is providing notice of a technical issue in the collection of public comments responding to a previous Federal Register notice, dated August 20, 2020, submitted to the American Academy of Pediatrics through its publicly available web-based portal during the period from August 20-27, 2020. After receiving no comments during this timeframe, a routine test found that the database that records public comments was not connected to the comment form on the web page. This technical issue has been resolved and the system is functional and collecting comments. HRSA encourages members of the public who may have previous submitted comments to resubmit and is extending the time period for public comments in response to proposed updates to the Periodicity Schedule of the Bright Futures Recommendations for Pediatric Preventive Health Care (“Bright Futures Periodicity Schedule”). The Bright Futures Periodicity Schedule is part of the HRSA-supported preventive service guidelines for infants, children, and adolescents under, and is maintained, in part, through a national cooperative agreement, the Bright Futures Pediatric Implementation Program.

DATES: The comment period published in the Federal Register on August 20, 2020, at 85 FR 51454-01 is extended. Members of the public are invited to provide written comments no later than October 16, 2020. All comments received on or before this date will be reviewed and considered by the Bright Futures Periodicity Schedule Workgroup and provided for further consideration by HRSA in determining the recommended updates that it will support.

ADDRESSES: Members of the public interested in providing comments can do so by accessing the public comment web page at: https://mchb.hrsa.gov/maternal-child-health-topics/child-health/bright-futures.html.

FOR FURTHER INFORMATION CONTACT: Bethany Miller, HRSA, Maternal and Child Health Bureau, email: BMiller@hrsa.gov, telephone: (301) 945-5156.

SUPPLEMENTARY INFORMATION: On August 20, 2020, HRSA published a notice soliciting public comments regarding proposed updates to the Bright Futures Periodicity Schedule (85 FR 51454-01). Due to technical issues, comments that may have been submitted between August 20, 2020, and August 27, 2020, were not captured. To ensure that all comments are received and considered, the public is encouraged to resubmit any comments that were provided in response to the notice published on August 20, 2020 (85 FR 51454-01) and also is extending the time period for public comments.

HRSA has funded the Bright Futures Program as a cooperative agreement since 1990. A primary focus of this program is for the funding recipient to maintain and update the Bright Futures Guidelines for Health Supervision of Infants, Children and Adolescents, a set of materials and tools for providing quality preventive care screenings and well-child visits. One component of these tools is the Bright Futures Periodicity Schedule, a chart that identifies the recommended screenings, assessments, physical examinations, and procedures to be delivered within preventive checkups at each age milestone. Over the program's existence, the Bright Futures Periodicity Schedule has become the accepted schedule within the United States for preventive health services through the course of a child's development.

Under section 2713 of the Public Health Service Act, 42 U.S.C. 300gg-13, non-grandfathered group health plans and health insurance issuers must include coverage, without cost sharing, for certain preventive services, for plan years (in the individual market, policy years) that begin on or after the date that is one year after the date the recommendation or guideline is issued. These include preventive health services provided for in the Bright Futures Periodicity Schedule as part of the HRSA-supported Preventive Services Guidelines for Infants, Children, and Adolescents. A panel of pediatric primary care experts convened to review the latest evidence and recommends updating the Bright Futures Periodicity Schedule to include screening all individuals ages 18 and older at least once for hepatitis C virus infection. This proposed update aligns with the United States Preventive Services Task Force's recommendation that all adults ages 18 to 79 be screened at least once for hepatitis C virus infection.

The American Academy of Pediatrics, which has been the HRSA cooperative agreement recipient for this program since 2007, maintains the Periodicity Schedule. Under HRSA's cooperative agreement with the American Academy of Pediatrics, the Bright Futures Program is required to administer a process for developing and regularly recommending, as needed, updates to the Bright Futures Periodicity Schedule. As described in the Notice of Funding Opportunity for the Bright Futures Program (HRSA-18-078), the consideration of potential updates is expected to be “a comprehensive, objective, and transparent review of available evidence that incorporates opportunity for public comment.”

Thomas J. Engels,
Administrator.

[FR Doc. 2020-20380 Filed 9-15-20; 8:45 am]

BILLING CODE 4165-15-P